DEPARTMENT OF ENERGY

Federal Energy Regulatory Commission

Combined Notice of Filings #2

Take notice that the Commission received the following electric rate filings:

Docket Numbers: ER14-1630-005; ER15-1375-001; ER15-2602-001; ER10-1967-008; ER10-1968-008; ER10-2720-010; ER11-4428-010; ER12-1880-009; ER12-895-008; ER14-21-004; ER11-4462-013; ER10-1970-008; ER11-4677-008; ER10-1972-008; ER10-1971-022; ER10-1973-007; ER10-1951-010; ER10-1974-017; ER10-1975-018; ER12-2444-007; ER10-1976-007; ER10-1983-008; ER10-1984-008; ER14-2710-005; ER15-58-003; ER11-2365-007; ER10-1985-007; ER10-1986-008, ER12-676-007, ER13-2461-003; ER11-2192-008; ER14-2708-006; ER14-2709-005; ER15-30-003; ER15-2243-001; ER15-1016-001; ER10-1989-007; ER15-2134-001; ER10-1990-008; ER13-2474-004; ER10-1991-008; ER12-1660-008; ER13-2458-002; ER11-4678-008, ER10-1993-008; ER10-1994-007; ER10-2078-009, ER10-1995-007; ER12-631-008.

Applicants: Mantua Creek Solar, LLC, McCoy Solar, LLC, Meyersdale Storage, LLC, Meyersdale Windpower LLC, Mill Run Windpower, LLC, Minco Wind, LLC, Minco Wind II, LLC, Minco Wind III, LLC, Minco Wind Interconnection Services, LLC, Mountain View Solar, LLC, NEPM II, LLC, NextEra Energy Duane Arnold, LLC, NextEra Energy Montezuma II Wind, LLC, NextEra Energy Point Beach, LLC, NextEra Energy Power Marketing, LLC, NextEra Energy Seabrook, LLC, NextEra Energy Services Massachusetts, LLC, Northeast Energy Associates, A Limited Partnership, North Jersey Energy Associates, A Limited Partnership, North Sky River Energy, LLC, Northern Colorado Wind Energy, LLC, Osceola Windpower, LLC, Osceola Windpower II, LLC, Palo Duro Wind Energy, LLC, Palo Duro Wind Interconnection Services, LLC, Paradise Solar Urban Renewal, L.L.C., Peetz Table Wind Energy, LLC, Pennsylvania Windfarms, Inc., Perrin Ranch Wind, LLC, Pheasant Run Wind, LLC, Red Mesa Wind, LLC, Seiling Wind, LLC, Seiling Wind II, LLC, Seiling Wind Interconnection Services, LLC, Silver State Solar Power South, LLC, Shafter Solar, LLC, Sky River LLC Sky River Asset Holdings, LLC, Somerset Windpower, LLC, Steele Flats Wind Project, LLC, Story Wind, LLC, Tuscola Bay Wind, LLC, Tuscola Wind II, LLC, Vasco Winds, LLC, Waymart Wind Farm, L.P., Wessington Wind Energy Center, LLC, White Oak Energy LLC, Wilton Wind II, LLC, Windpower Partners 1993, LLC.

Description: Notice of Change in Status of the NextEra Energy Companies [Part 2 of 2].

Filed Date: 10/28/15.

Accession Number: 20151028-5392.

Comments Due: 5 p.m. ET 11/18/15.

Docket Numbers: ER16-61-001.

Applicants: Seville Solar One LLC.

Description: Tariff Amendment: Amendment to MBR Application to be effective 10/13/2015.

Filed Date: 10/29/15.

Accession Number: 20151029-5356.

Comments Due: 5 p.m. ET 11/19/15.

Docket Numbers: ER16-63-001.

Applicants: Seville Solar Two, LLC.

Description: Tariff Amendment: Amendment to MBR Application to be effective 10/13/2015.

Filed Date: 10/29/15.

Accession Number: 20151029-5359.

Comments Due: 5 p.m. ET 11/19/15.

Docket Numbers: ER16-64-001.

Applicants: Tallbear Seville LLC.

Description: Tariff Amendment: Amendment to MBR Application to be effective 10/13/2015.

Filed Date: 10/29/15.

Accession Number: 20151029-5360.

Comments Due: 5 p.m. ET 11/19/15.

Docket Numbers: ER16-141-001.

Applicants: Conetoe II Solar, LLC.

Description: Tariff Amendment: Amendment to MBR Application to be effective 10/26/2015.

Filed Date: 10/29/15.

Accession Number: 20151029-5362.

Comments Due: 5 p.m. ET 11/19/15.

Docket Numbers: ER16-162-000.

Applicants: Southwest Power Pool, Inc.

Description: Petition of Southwest Power Pool, Inc. for Tariff Waiver.

Filed Date: 10/28/15.

Accession Number: 20151028-5409.

Comments Due: 5 p.m. ET 11/18/15.

Docket Numbers: ER16-163-000.

Applicants: Southwest Power Pool, Inc.

Description: Section 205(d) Rate Filing: Revisions to Update Definitions for Transmission Provider and Tariff to be effective 1/1/2016.

Filed Date: 10/29/15.

Accession Number: 20151029-5289.

Comments Due: 5 p.m. ET 11/19/15.

Take notice that the Commission received the following land acquisition reports:

Docket Numbers: LA15-3-000.

Applicants: Beech Ridge Energy LLC, Beech Ridge Energy II LLC, Beech Ridge Energy Storage LLC, Bishop Hill Energy LLC, Bishop Hill Energy III LLC, Buckeye Wind Energy LLC, California Ridge Wind Energy LLC, Forward Energy LLC, Grand Ridge Energy LLC, Grand Ridge Energy II LLC, Grand Ridge Energy III LLC, Grand Ridge Energy IV LLC, Grand Ridge Energy V LLC, Grand Ridge Energy Storage LLC, Gratiot County Wind LLC, Gratiot County Wind II LLC, Grays Harbor Energy LLC, Hardee Power Partners Limited, Invenergy Cannon Falls LLC, Invenergy Nelson LLC, Invenergy TN LLC, Judith Gap Energy LLC, Prairie Breeze Wind Energy LLC, Prairie Breeze Wind Energy II LLC, Prairie Breeze Wind Energy III LLC, Sheldon Energy LLC, Spindle Hill Energy LLC, Spring Canyon Energy LLC, Stony Creek Energy LLC, Vantage Wind Energy LLC, Willow Creek Energy LLC, Wolverine Creek Energy LLC.

Description: Quarterly Land Acquisition Report of Beech Ridge Energy LLC, et al.

Filed Date: 10/29/15.

Accession Number: 20151029-5277.

Comments Due: 5 p.m. ET 11/19/15.

Docket Numbers: LA15-3-000.

Applicants: Virginia Electric and Power Company, Dominion Energy Marketing, Inc., Dominion Nuclear Connecticut, Inc., Dominion Energy Manchester Street, Inc., Dominion Retail, Inc., Fairless Energy, LLC, NedPower Mt. Storm, LLC, Fowler Ridge Wind Farm, LLC, Dominion Bridgeport Fuel Cell, LLC, RE Columbia Two LLC, RE Camelot LLC, Selmer Farm, LLC, Mulberry Farm, LLC, CID Solar, LLC, Cottonwood Solar, LLC, Imperial Valley Solar Company (IVSC) 2, LLC, Pavant Solar LLC.

Description: Quarterly Land Acquisition Report of Dominion Resources Services, Inc. on behalf of the Dominion Affiliates.

Filed Date: 10/29/15.

Accession Number: 20151029-5283.

Comments Due: 5 p.m. ET 11/19/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 29, 2015.
Nathaniel J. Davis, Sr.,
Deputy Secretary.

[FR Doc. 2015-28206 Filed 11-4-15; 8:45 am]

BILLING CODE 6717-01-P